DEPARTMENT OF THE INTERIOR

Bureau of Ocean Energy Management, Regulation and Enforcement

[Docket ID No. BOEM-2011-0010]

BOEMRE Information Collection Activity; 1010-0141, Subpart D, Oil and Gas Drilling Operations, Extension of a Collection; Comment Request

AGENCY: Bureau of Ocean Energy Management, Regulation and Enforcement (BOEMRE), Interior.

ACTION: Notice of extension of an information collection (1010-0141).

SUMMARY: To comply with the Paperwork Reduction Act of 1995 (PRA), BOEMRE is inviting comments on a collection of information that we will submit to the Office of Management and Budget (OMB) for review and approval. The information collection request (ICR) concerns the paperwork requirements related to oil and gas drilling operations, and related forms.

DATES: Submit written comments by June 14, 2011.

FOR FURTHER INFORMATION CONTACT: Cheryl Blundon, Regulations and Standards Branch at (703) 787-1607. You may also contact Cheryl Blundon to obtain a copy, at no cost, of the regulations and the forms that require the subject collection of information.

ADDRESSES: You may submit comments by either of the following methods listed below.

• Electronically: go to http://www.regulations.gov. In the entry titled “Enter Keyword or ID,” enter BOEM-2010-0010 then click search. Follow the instructions to submit public comments and view supporting and related materials available for this collection. BOEMRE will post all comments.

• E-mail cheryl.blundon@boemre.gov. Mail or hand-carry comments to the Department of the Interior; Bureau of Ocean Energy Management, Regulation and Enforcement; Attention: Cheryl Blundon; 381 Elden Street, MS-4024; Herndon, Virginia 20170-4817. Please reference ICR 1010-0141 in your comment and include your name and return address.

SUPPLEMENTARY INFORMATION: Title: 30 CFR Part 250, Subpart D, Oil and Gas Drilling Operations.

BOEMRE Form(s): MMS-123, MMS-123S, MMS-124, MMS-125, MMS-133, MMS-133S, and MMS-144.

OMB Control Number: 1010-0141.

Abstract: The Outer Continental Shelf (OCS) Lands Act, as amended (43 U.S.C. 1331 et seq. and 43 U.S.C. 1801 et seq.), authorizes the Secretary of the Interior to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. Section 1332(6) states that “operations in the Outer Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.”

The Independent Offices Appropriations Act (31 U.S.C. 9701), the Omnibus Appropriations Bill (Pub. L. 104-133, 110 Stat. 1321, April 26, 1996), and OMB Circular A-25, authorize Federal agencies to recover the full cost of services that confer special benefits. Under the Department of the Interior's implementing policy, BOEMRE is required to charge fees for services that provide special benefits or privileges to an identifiable non-Federal recipient above and beyond those which accrue to the public at large. Applications for permits to drill and modification approvals are subject to cost recovery, and BOEMRE regulations specify service fees for these requests.

This authority and responsibility are among those delegated to BOEMRE. The regulations at 30 CFR 250, subpart D, concern oil and gas drilling operations and are the subject of this collection. This request also covers the related Notices to Lessees and Operators (NTLs) that BOEMRE issues to clarify, supplement, or provide additional guidance on some aspects of our regulations.

Regulations at 30 CFR 250, subpart D, implement these statutory requirements. We use the information to ensure safe drilling operations and to protect the human, marine, and coastal environment. Among other things, BOEMRE specifically uses the information to ensure: The drilling unit is fit for the intended purpose; the lessee or operator will not encounter geologic conditions that present a hazard to operations; equipment is maintained in a state of readiness and meets safety standards; each drilling crew is properly trained and able to promptly perform well-control activities at any time during well operations; compliance with safety standards; and the current regulations will provide for safe and proper field or reservoir development, resource evaluation, conservation, protection of correlative rights, safety, and environmental protection. We also review well records to ascertain whether drilling operations have encountered hydrocarbons or H2S and to ensure that H2S detection equipment, personnel protective equipment, and training of the crew are adequate for safe operations in zones known to contain H2S and zones where the presence of H2S is unknown.

The following forms are also submitted to BOEMRE under subpart D. The forms and their purposes are:

Application for Permit To Drill (APD), Forms MMS-123 and MMS-123S

BOEMRE uses the information from these forms to determine the conditions of a drilling site to avoid hazards inherent in drilling operations. Specifically, we use the information to evaluate the adequacy of a lessee's plan and equipment for drilling, sidetracking or bypass operations. This includes the adequacy of the proposed casing design, casing setting depths, drilling fluid (mud), and cementing programs to ascertain that the proposed operations will be conducted in an operationally safe manner that provides adequate protection for the environment. BOEMRE also reviews the information to ensure conformance with specific provisions of the lease. In addition, except for proprietary data, BOEMRE is required by the OCS Lands Act to make available to the public certain information submitted on forms MMS-123 and MMS-123S.

Application for Permit To Modify (APM), Form MMS-124

The information on this form is used to evaluate and approve the adequacy of the equipment, materials, and/or procedures that the lessee plans to use during such post APD modifications or operations as plugging back or temporary abandonment where the well bore will be reentered and completed or permanently plugged. In addition, except for proprietary data, BOEMRE is required by the OCS Lands Act to make available to the public certain information submitted on form MMS-124.

End of Operations Report, Form MMS-125

BOEMRE uses this information to ensure that we have accurate and up-to-date data and information on wells and leasehold activities under our jurisdiction and to ensure compliance with approved plans and any conditions placed upon a suspension or temporary prohibition. It is also used to evaluate the remedial action in the event of well equipment failure or well control loss. Form MMS-125 is updated and resubmitted in the event the well status changes. The information keeps us aware of the status of drilling and completion operations. In addition, except for proprietary data, BOEMRE is required by the OCS Lands Act to make available to the public certain information submitted on form MMS-125.

Well Activity Report, Forms MMS-133 and MMS-133S

BOEMRE uses this information to monitor the conditions of a well and status of drilling operations. We review the information to be aware of the well conditions and current drilling activity (i.e., well depth, drilling fluid weight, casing types and setting depths, completed well logs, and recent safety equipment tests and drills). The engineer uses this information to determine how accurately the lessee anticipated well conditions and if the lessee is following the approved APD. The information is also used for review of an APM (form MMS-124). With the information collected on form MMS-133 available, the reviewers can analyze the proposed revisions (i.e., revised grade of casing or deeper casing setting depth) and make a quick and informed decision on the request. In addition, except for proprietary data, BOEMRE is required by the OCS Lands Act to make available to the public certain information submitted on forms MMS-133 and MMS-133S.

Rig Movement Notification Report, Form MMS-144

As activity increased over the years in the Gulf of Mexico (GOM), the rig notification requirement became essential for BOEMRE inspection scheduling and has become a standard condition of approval for certain permits. BOEMRE needs the information on Form MMS-144 to schedule inspections and verify that the equipment being used complies with approved permits. In reporting rig movements respondents have the option of submitting the form or using a Web-based system for electronic data submissions. The information on this form is used primarily in the GOM to ascertain the precise arrival and departure of all rigs in OCS waters in the GOM. The accurate location of these rigs is necessary to facilitate the scheduling of inspections by BOEMRE personnel.

It is noted that the U.S. Coast Guard (USCG) also requires notification of rig movement and that there is some duplication of information reported. Therefore, there are some data elements in the form that are “optional” for BOEMRE reporting purposes, since we do not need this information. These optional data elements in the form satisfy any concerns in reporting rig movement information to both BOEMRE and the USCG.

Out of the seven forms associated with this collection, we have made some minor editorial changes for clarity purposes to forms MMS-123 and MMS-123S and we have added plug information to be submitted via form MMS-125. The information is on the schematic that is submitted as an attachment to the form.

We will protect proprietary information according to 30 CFR 250.197, “Data and information to be made available to the public or for limited inspection,” 30 CFR part 252, “OCS Oil and Gas Information Program,” and the Freedom of Information Act (5 U.S.C. 552) and its implementing regulations (43 CFR 2). No items of a sensitive nature are collected. Responses are mandatory.

Frequency: Frequency of response is generally on occasion, weekly, monthly, semi-annually, annually, and varies by section.

Description of Respondents: Potential respondents comprise Federal oil, gas, or sulphur lessees and/or operators.

Estimated Reporting and Recordkeeping Hour Burden: The currently approved annual reporting burden for this collection is 147,014 hours. The following chart details the individual components and respective hour burden estimates of this ICR. In calculating the burdens, we assumed that respondents perform certain requirements in the normal course of their activities. We consider these to be usual and customary and took that into account in estimating the burden.

Citation 30 CFR 250 Subpart D and NTL(s) | Reporting and recordkeeping requirement | Hour burden: Non-hour cost burdens
General Requirements
402(b) | Request approval to use blind or blind-shear ram or pipe rams and inside BOP | 0.25.
403 | Notify BOEMRE of drilling rig movement on or off drilling location | 0.1.
| In Gulf of Mexico OCS Region, rig movements reported on Form MMS-144 | 6 mins.
404 | Perform operational check of crown block safety device; record results (weekly) | 0.25.
408, 409 | Apply for use of alternative procedures and/or departures not requested in BOEMRE forms (including discussions with BOEMRE or oral approvals) | 5.
Apply for a Permit to Drill
410-418, 420(a)(6); 423(b)(3), (c)(1); 449(j), (k); 456(j); plus various references in subparts A, B, D, E, H, P, Q. | Apply for APD/revised APD that includes any/all supporting documentation/evidence [test results, calculations, verifications, procedures, criteria, qualifications, etc, and request for various approvals required in subpart D (including §§ 250.424; 425; 427; 428; 432; 442(c); 447; 448(c); 451(g); 460; 490(c)) and submitted via BOEMRE forms MMS-123 (APD) and MMS-123S (Supplemental APD Information Sheet), and supporting information and notices to BOEMRE | 6. $1,959 application fee. MMS-123S 1.5+.*
410(b); 417(b) | Reference to Exploration Plan, Development and Production Plan, Development Operations Coordination Document (30 CFR 250, subpart B)—burden covered under 1010-00151.
416(g)(2) | Provide 24 hour advance notice of location of shearing ram tests or inspections; allow BOEMRE access to witness testing, inspections and information verification | 10 mins.
417(a), (b) | Collect and report additional information on case-by-case basis if sufficient information is not available | 4.
417(c) | Submit 3rd party review of drilling unit according to 30 CFR 250, subpart I—burden covered under 1010-0149.
418(e) | Submit welding and burning plan according to 30 CFR 250, subpart A—burden covered under 1010-0114.
Casing and Cementing Requirements
420(b)(3) | Submit dual mechanical barrier documentation after installation | 30 mins.
421; 423; 428 | Submit casing and cementing program and revisions or changes. | 2.
423(b)(4), (c)(2) | Perform pressure casing test; document results and make available to BOEMRE upon request | 30 mins.
424 | Caliper, pressure test, or evaluate casing; submit evaluation results; request approval before resuming operations or beginning repairs (every 30 days during prolonged drilling) | 4.
426 | Perform pressure test on all casing strings and drilling liner lap; record results | 2.
427(a) | Perform pressure-integrity tests and related hole-behavior observations; record results | 4.
Diverter System Requirements
434; 467 | Perform diverter tests when installed and once every 7 days; actuate system at least once every 24-hour period; record results (average 2 per drilling operation); retain all charts/reports relating to diverter tests/actuations at facility for duration of drilling well | 2.
Blowout Preventer (BOP) System Requirements
442(h) | Label all functions on all panels | 30 mins.
442(i) | Develop written procedures for management system for operating the BOP stack and LMRP | 4.
442(j) | Establish minimum requirements for authorized personnel to operate critical BOP equipment; require training | Burden covered under 1010-0128.
446(a) | Document BOP maintenance and inspection procedures used; record results of BOP inspections and maintenance actions; maintain records for 2 years; make available to BOEMRE upon request | 1.
449(j)(2) | Test all ROV intervention functions on your subsea BOP stack; document all test results; make available to BOEMRE upon request | 10.
449(k)(2) | Function test autoshear and deadman on your subsea BOP stack during stump test; document all test results; make available to BOEMRE upon request | 30 mins.
450; 467 | Perform BOP pressure tests, actuations and inspections when installed; at a minimum every 14 days; as stated for components; document and record actions/results, sign as correct | 10.
450, 467 | Function test annulars and rams; document results every 7 days between BOP tests (biweekly), retain records at facility for drilling duration. Note: this test is part of BOP test when BOP test is conducted | 0.5.
451(c) | Record reason for postponing BOP test (on occasion—approx. 2/year) | 0.25.
Drilling Fluid Requirements
456(b), (i); 458(b) | Record each drilling fluid circulation; test drilling fluid, record results; record daily inventory of drilling fluid/materials; test and recalibrate gas detectors; record results (on occasion, daily, weekly, quarterly) | 2.
456(c) | Perform various calculations; post information (on occasion, daily, weekly) | 0.5.
459(a)(3) | Request exception to procedure for protecting negative pressure area | 2.
Other Drilling Requirements
460; 465; 250.449(j), (k); 456(j) plus various references in subparts A, D, E, F, H, P, and Q | Submit revised plans, changes, well/drilling records, procedures, certifications that include any/all supporting documentation etc., and request for various approvals required in subpart D on forms MMS-124 (APM) or MMS-125 (End of Operations Report) and supporting information | MMS-124 4. $116 application fee. MMS-125 1.6+.*
460 | Submit plans for well testing and notify BOEMRE before test | 2.
461(a-b); 466(e); 468(a) | Record and submit well logs, survey results, etc Record and submit directional and vertical-well surveys Record and submit velocity profiles and surveys Record and submit core analyses | 1.5. 1. 1. 1.
461(e) | Provide copy of well directional survey to affected leaseholder | 1.
462(a) | Prepare and post well control drill plan for crew members | 3.
462(c) | Perform well-control drills; record results (2 crews weekly) | 1.
463(b) | Request field drilling rules be established, amended, or canceled | 2.5.
Applying for a Permit To Modify and Well Records
466, 467 | Retain drilling records for 90 days after drilling is complete; retain casing/liner pressure, diverter, and BOP records for 2 years; retain well completion/well workover until well is permanently plugged/abandoned or lease is assigned | 1.5.
468(b); 465(b)(3) | In the GOM OCS Region, submit drilling activity reports weekly on forms MMS-133 (Well Activity Report) and MMS-133S (Bore Hole Data) and supporting information | MMS-133 1+.* MMS-133S 1+.*
468(c) | In the Pacific and Alaska OCS Regions during drilling operations, submit daily drilling reports N/A in GOM. | 1.
469 | As specified by region, submit well records, paleontological interpretations or reports, service company reports, and other reports or records of operations | 1.5.
Hydrogen Sulfide
490(c), (d) | Submit request for reclassification of H2S zone; notify BOEMRE if conditions change | 2.
490(f); also referenced in 418(d) | Submit contingency plans for operations in H2S areas (16 drilling, 5 work-over, 6 production) | 25.
490(g) | Conduct H2S training; post safety instructions; document training on occasion and annual refresher (approx. 2/year) | 4.
490(h)(2) | Conduct weekly drills and safety meetings; document attendance for drilling, well completion, well workover at facility until operations completed; production attendance documentation for 1 year nearest field office | 2.
490(i) | Display warning signs—no burden as facilities would display warning signs and use other visual and audible systems.
490(j)(7-8) | Test H2S detection and monitoring sensors during drilling; record testing and calibrations on occasion, daily during drilling (approx. 12 sensors per rig) | 4.
490(j)(7-8) | Test H2S detection and monitoring sensors every 14 days during production; record testing and calibrations (approx. 30 sensors/5 platforms + approx. 42 sensors/23 platforms) | 3.5.
490(j)(12) | Propose alternatives to minimize or eliminate SO2 hazards—submitted with contingency plans—burden covered under 250.490(f).
490(j)(13)(vi) | Label breathing air bottles—no burden as supplier normally labels bottles; facilities would routinely label if not.
490(l) | Notify (phone) BOEMRE of unplanned H2S releases (approx. 2/year) | Oral—0.2. Written—4.
490(o)(5) | Request approval to use drill pipe for well testing | 2.
490(q)(1) | Seal and mark for the presence of H2S cores to be transported—no burden as facilities would routinely mark transported cores.
490(q)(9) | Request approval to use gas containing H2S for instrument gas | 2.
490(q)(12) | Analyze produced water disposed of for H2S content and submit results to BOEMRE on occasion (approx. weekly) | 2.8.
Miscellaneous
400-490 | General departure or alternative compliance requests not specifically covered elsewhere in subpart D | 2.
NTL | Voluntary submittal to USCG read only access to the EPIRB data for their moored drilling rig fleet before hurricane season | .25.
* The hour burdens are an average of the estimate due to the fact that a large percentage of the submittals are reported electronically, which in some cases takes less time than the percentage of the submittals that are reported in paper form.

Estimated Reporting and Recordkeeping Non-Hour Cost Burden: The currently approved non-hour cost burden for this collection is $1,789,340. We have identified two non-hour cost burdens. Section 250.410(d) requires a fee ($1,959) for an APD. Section 250.460 requires a fee ($116) for an APM the drilling application. We have not identified any other non-hour paperwork cost burdens associated with this collection of information.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the non-hour paperwork cost burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, e-mail address, or other personal identifying information in your comment, you should be aware that your entire comment—including your personal identifying information—may be made publicly available at any time. While you can ask us in your comment to withhold your personal identifying information from public review, we cannot guarantee that we will be able to do so.

BOEMRE Information Collection Clearance Officer: Arlene Bajusz (703) 787-1025.

Dated: April 7, 2011.
Sharon Buffington,
Acting Chief, Office of Offshore Regulatory Programs.

[FR Doc. 2011-9196 Filed 4-14-11; 8:45 am]

BILLING CODE 4310-MR-P